DEPARTMENT OF JUSTICE

Notice of Lodging of Consent Decree Pursuant to the Comprehensive Environmental Response, Compensation and Liability Act

In accordance with 28 CFR 50.7 and section 122 of the Comprehensive Response, Compensation and Liability Act (“CERCLA”), 42 U.S.C. 9622, the Department of Justice gives notice that a proposed consent decree in United States v. Mark IV Industries, Inc. et al., No. 1:00CV918 (W.D. Mich.), was lodged with the United States District Court for the Western District of Michigan on December 18, 2000, pertaining to the implementation of the United States Environmental Protection Agency's selected remedial action for the Electro-Voice Superfund Site (“EV Site”), Buchanan, Berrien County, Michigan.

Under the proposed consent decree, Mark IV Industries, Inc. will implement U.S. EPA's selected remedy for operable unit 2 (“OU2”) at the Site, and pay U.S. EPA's oversight costs. The Consent Decree includes a covenant not to sue by the United States under sections 106 and 107 of the Comprehensive Environmental Response, Compensation and Liability Act, 42 U.S.C. 9601 et seq. (“CERCLA”), and section 7003 of the Resource Conservation and Liability Act (“RCRA”), 42 U.S.C. 6973.

The Department of Justice will receive, for a period of thirty (30) days from the date of this publication, comments relating to the proposed consent decree. Comments should be addressed to the Assistant Attorney General, Environment and Natural Resource Division, United States Department of Justice, Washington, DC 20530, and should refer to United States v. Mark IV Industries, Inc. et al., No. 1:00CV918 (W.D. Mich.), and DOJ Reference No. 90-11-2-07050. Commentors may request an opportunity for a public meeting in the affected area, in accordance with RCRA section 7003(d), 42 U.S.C. 6973(d).

The proposed consent decree may be examined at: (1) The Office of the United States Attorney for the Western District of Michigan, 330 Ionia, NW., Grand Rapids, Michigan 49503 (616) 456-2404; and (2) the United States Environmental Protection Agency (Region 5), 77 West Jackson Boulevard, Chicago, Illinois 60604-3590 (contact Kris Vezner (312-886-6827)) a copy of the proposed consent decree may be obtained by mail from the Consent Decree Library, PO Box 7611, Washington, DC 20044. In requesting a copy, please refer to the referenced case and DOJ Reference Number and enclose a check in the amount of $18.25 for the consent decree only (73 pages at 25 cents per page reproduction costs), or $75.75 for the consent decree and all appendices (303 pages), made payable to the consent Decree Library.

Bruce S. Gelber,
Environmental Enforcement Section, Environment and Natural Resources Division.

[FR Doc. 01-920 Filed 1-10-01; 8:45 am]

BILLING CODE 4410-15-M